DEPARTMENT OF COMMERCE

International Trade Administration

[A-570-095, C-570-096]

Aluminum Wire and Cable From the People's Republic of China: Final Negative Scope Ruling With Respect to the Kingdom of Cambodia; Final Negative Determination of Circumvention With Respect to the Kingdom of Cambodia

AGENCY: Enforcement and Compliance, International Trade Administration, Department of Commerce.

SUMMARY: The U.S. Department of Commerce (Commerce) determines that imports of aluminum wire and cable (AWC) completed in the Kingdom of Cambodia (Cambodia) using certain AWC inputs manufactured in the People's Republic of China (China) are not covered by the scope of the antidumping duty (AD) and countervailing duty (CVD) orders on AWC from China. In addition, Commerce determines that AWC completed in Cambodia using certain AWC inputs manufactured in China are not circumventing the AD and CVD orders on AWC from China.

DATES: Applicable December 20, 2024.

FOR FURTHER INFORMATION CONTACT: Gene H. Calvert, AD/CVD Operations, Office VII, Enforcement and Compliance, International Trade Administration, U.S. Department of Commerce, 1401 Constitution Avenue NW, Washington, DC 20230; telephone: (202) 482-3586.

SUPPLEMENTARY INFORMATION:

Background

On August 7, 2024, Commerce published in the Federal Register its Preliminary Determinations that imports of AWC completed in Cambodia using certain AWC inputs manufactured in China are not covered by the scope of the AD and CVD orders on AWC from China and that imports of AWC completed in Cambodia using certain AWC inputs are not circumventing Orders.¹ Pursuant to section 781(e) of the Tariff Act of 1930, as amended (the Act), on August 13, 2024, Commerce notified the U.S. International Trade Commission (ITC) of its preliminary negative determination of circumvention with respect to Cambodia.² The ITC did not request consultations with Commerce.

¹ See Aluminum Wire and Cable from the People's Republic of China: Preliminary Negative Scope Determinations with Respect to Cambodia, Korea, and Vietnam; Preliminary Affirmative Determinations of Circumvention with Respect to Korea and Vietnam; Preliminary Negative Determination of Circumvention with Respect to Cambodia, 89 FR 64406 (August 7, 2024) (Preliminary Determinations), and accompanying Preliminary Decision Memorandum (PDM); see also Aluminum Wire and Cable from the People's Republic of China: Antidumping and Countervailing Duty Orders, 84 FR 70496 (December 23, 2019) (Orders).

² See Commerce's Letter, “Notification of Affirmative and Negative Preliminary Determinations of Circumvention,” dated August 13, 2024.

Between September 20 and September 27, 2024, Commerce conducted verification of the questionnaire responses submitted by the Cambodian respondents, Ruito Wire and Cable Co., Ltd. (Ruito Wire) and Xiantong Wire and Cable Co., Ltd. (Xiantong Wire).³

³ See Memoranda, “Verification of the Responses Submitted by Ruito Wire and Cable Co., Ltd.,” and “Verification of the Responses Submitted by Xiantong Wire and Cable Co., Ltd.,” both dated November 8, 2024.

On November 18, 2024, Ruito Wire and Xiantong Wire each submitted a letter in lieu of a case brief for Commerce to consider for these final determinations.⁴ In their letters, Ruito Wire and Xiantong Wire each stated that the facts underlying Commerce's negative preliminary scope and circumvention determinations have been verified as accurate and, as a result, that Commerce should issue final negative scope and circumvention determinations with respect to Cambodia.⁵ No other party submitted comments for Commerce to consider for these final determinations.

⁴ See Ruito Wire's Letter, “Letter in Lieu of Case Brief,” dated November 18, 2024; see also Xiantong Wire's Letter, “Letter in Lieu of Case Brief,” dated November 18, 2024.

⁵ Id.

Scope of the Orders

The product covered by the scope of the Orders is AWC from China. For a full description of the scope of the Orders, see Appendix I of this notice.

Merchandise Subject to the Scope and Circumvention Inquiries

These inquiries cover AWC assembled or completed in Cambodia using Chinese-origin AWC inputs (e.g., stranded wire and cables or unfinished AWC) that is subsequently exported from Cambodia to the United States (inquiry merchandise). These inquiries cover exports of AWC from Cambodia that are assembled or completed using inputs of Chinese origin which undergo further processing in Cambodia. For a full description of the merchandise subject to these scope and circumvention inquiries, see Appendix II of this notice.

Analysis of Comments Received

Commerce received no comments objecting to its findings in the Preliminary Determinations with regard to its scope analysis conducted under 19 CFR 351.225(k)(1), nor did Commerce receive any comments objecting to its findings in the Preliminary Determinations regarding its analysis under the circumvention factors of section 781(b) of the Act. Accordingly, Commerce made no changes to its Preliminary Determinations, and no decision memoranda accompany this Federal Register notice. For a complete description of the Commerce's analysis, see the Preliminary Determinations.

Methodology and Final Scope Ruling

Commerce conducted this scope inquiry in accordance with 19 CFR 351.225(k)(1), and it made no changes to its methodology for this final scope ruling. Specifically, as discussed in the Preliminary Determinations, Commerce finds that AWC produced in Cambodia using Chinese-origin inputs that do not satisfy the physical description of the scope of the Orders is not subject to the Orders.⁶

⁶ See Preliminary Determinations PDM at 5-8.

Methodology and Final Circumvention Determination

Commerce conducted this circumvention inquiry in accordance with section 781(b) of the Act and 19 CFR 351.226. Commerce made no changes to its methodology for this final circumvention determination. Specifically, as discussed in the Preliminary Determinations, Commerce determines that U.S. imports of inquiry merchandise from Cambodia are not circumventing the Orders.⁷ As a result, in accordance with section 781(b) of the Act, Commerce determines that the inquiry merchandise exported from Cambodia should not be included within the scope of the Orders. Commerce is making this negative determination of circumvention of the Orders on a country-wide basis.

⁷ Id.

Termination of Suspension of Liquidation and Refund of Cash Deposits

Pursuant to 19 CFR 351.225(l)(1) and 19 CFR 351.226(l)(1), Commerce notified U.S. Customs and Border Protection (CBP) of the initiation of these scope and circumvention inquiries and directed CBP to continue the suspension of liquidation of entries of products subject to these scope and circumvention inquiries that were already subject to the suspension of liquidation under the Orders and to apply the cash deposit rate that would be applicable if the products were determined to be covered by the scope of the Orders.⁸

⁸ See CBP Message No. 3299401, “Initiation of Circumvention Inquiry—Antidumping/Countervailing Orders on Aluminum Wire Cable from the People's Republic of China (China) (A-570-095; C-570-096),” dated October 26, 2023; see also CBP Message No. 3299402, “Initiation of Scope Inquiry—Antidumping/Countervailing Duty Orders on Aluminum Wire Cable from the People's Republic of China (China) (A-570-095; C-570-096),” dated October 26, 2023. These CBP messages are publicly available on CBP's AD/CVD website at https://trade.cbp.dhs.gov/ace/adcvd/adcvd-public/#.

In accordance with 19 CFR 351.225(l)(4) and 19 CFR 351.226(l)(4), Commerce will order CBP to terminate the suspension of liquidation and refund cash deposits for any entries of inquiry merchandise that are suspended under the case numbers applicable to this inquiry (i.e., A-570-095 and C-570-096).

Administrative Protective Order (APO)

This notice will serve as the only reminder to all parties subject to an APO of their responsibility concerning the destruction of proprietary information disclosed under APO in accordance with 19 CFR 351.305(a)(3). Timely written notification of the return or destruction of APO materials or conversion to judicial protective order is hereby requested. Failure to comply with the regulations and the terms of an APO is a sanctionable violation.

Notification to Interested Parties

Commerce is issuing and publishing this notice in accordance with sections 781(b) and 777(i) of the Act, 19 CFR 351.225(h), and 19 CFR 351.226(g)(2).

Dated: December 13, 2024.
Abdelali Elouaradia,
Deputy Assistant Secretary for Enforcement and Compliance.

Appendix I—Scope of the Orders

The merchandise subject to the Orders is aluminum wire and cable, which is defined as an assembly of one or more electrical conductors made from 8000 Series Aluminum Alloys (defined in accordance with ASTM B800), Aluminum Alloy 1350 (defined in accordance with ASTM B230/B230M or B609/B609M), and/or Aluminum Alloy 6201 (defined in accordance with ASTM B398/B398M), provided that: (1) at least one of the electrical conductors is insulated; (2) each insulated electrical conductor has a voltage rating greater than 80 volts and not exceeding 1000 volts; and (3) at least one electrical conductor is stranded and has a size not less than 16.5 thousand circular mil (kcmil) and not greater than 1000 kcmil. The assembly may: (1) include a grounding or neutral conductor; (2) be clad with aluminum, steel, or other base metal; or (3) include a steel support center wire, one or more connectors, a tape shield, a jacket or other covering, and/or filler materials.

Most aluminum wire and cable products conform to National Electrical Code (NEC) types THHN, THWN, THWN-2, XHHW-2, USE, USE-2, RHH, RHW, or RHW-2, and also conform to Underwriters Laboratories (UL) standards UL-44, UL-83, UL-758, UL-854, UL-1063, UL-1277, UL-1569, UL-1581, or UL-4703, but such conformity is not required for the merchandise to be included within the scope.

The scope of the Orders specifically excludes aluminum wire and cable products in lengths less than six feet, whether or not included in equipment already assembled at the time of importation.

The merchandise covered by the Orders is currently classifiable under subheading 8544.49.9000 of the Harmonized Tariff Schedule of the United States (HTSUS). Products subject to the scope may also enter under HTSUS subheading 8544.42.9090. The HTSUS subheadings are provided for convenience and customs purposes. The written description of the scope of the Orders is dispositive.

Appendix II—Merchandise Subject to the Scope and Circumvention Inquiries

The scope and circumvention inquiries cover AWC completed in Cambodia using AWC inputs (e.g., stranded wire and cables or unfinished AWC) of Chinese-origin that is subsequently exported from Vietnam to the United States.

Available evidence shows that AWC inputs from China are processed in Cambodia and subsequently exported to the United States. These inquiries cover exports of AWC made using inputs of Chinese-origin that undergo further processing in Cambodia.

These final determinations apply to all shipments of inquiry merchandise on or after the date of the initiation of these circumvention and scope inquiries (i.e., October 19, 2023). Importers and exporters of AWC from Cambodia, even where determined to be out of scope, must still certify that merchandise is not subject to our country-wide finding of circumvention.⁹ Otherwise, their merchandise may be subject to antidumping and countervailing duties.

⁹ In such instances, see Appendix II of the Preliminary Determinations for certification requirements. Although the importer certification requirements in the Preliminary Determinations at Appendix II reference the Republic of Korea and the Socialist Republic of Vietnam, U.S. importers may modify these certification requirements to reference Cambodia.

[FR Doc. 2024-30388 Filed 12-19-24; 8:45 am]

BILLING CODE 3510-DS-P